Proclamation 9961 of October 31, 2019

National Native American Heritage Month, 2019

By the President of the United States of America

A Proclamation

American Indians and Alaska Natives continue to make immeasurable contributions to our Nation. We honor the sacrifices many tribal citizens have made in defense of our great Nation. We also recognize that our culture is more vibrant because of the special government-to-government relationship between the United States and Indian tribes. During National Native American Heritage Month, we reaffirm our commitment to work with tribal communities to address serious issues affecting them and to help protect their rich and diverse heritage.

Few acts of service better embody the intrepid spirit of our country than the willingness to answer the call of duty and defend our Nation's precious liberties. American Indians and Alaska Natives have done so at one of the highest rates of any ethnic group in the United States, serving admirably in every branch of our military. Their legacy of service spans the history of our Nation, and includes the Indian Home Guard during the Civil War and the Code Talkers during World War II. Today, 31,000 courageous men and women from American Indian and Alaska Native communities serve on active duty in our Armed Forces.

My Administration is committed to advancing shared priorities with tribal governments and leaders to address their most pressing challenges, including the devastating threat posed by drugs. In 2018, the Department of Interior's Opioid Reduction Task Force seized more than 3,200 pounds of illegal narcotics with an estimated value of approximately $9 million. In addition to our efforts to address the drug crisis, we are focused on healthcare access, delivery, and safety. In March 2019, my Administration created a task force charged with developing recommendations to protect Native American children receiving care at Indian Health Service clinics, and we look forward to continuing these efforts.

Additionally, my Administration began a series of public safety listening sessions with American Indian and Alaska Native tribal leaders and communities. These sessions, which are called Reclaiming our Native Communities, are focused on strategies to address the trend of violence and illicit activity affecting these populations and have addressed the problem of missing and murdered indigenous women. So far, these sessions have been held in Sacaton, Arizona; Nome and Bethel, Alaska; and Rapid City, South Dakota. Through collaboration with Federal, State, local, and tribal partners, we will continue working to address these and other issues that American Indian and Alaska Native communities face today.

My Administration has also played a role in helping to preserve the proud heritage of American Indians and Alaska Natives. In October, my Administration was pleased to secure the commitment of President Sauli Niinisto of Finland to facilitate the historic return of ancestral remains and artifacts to an assembly of 26 pueblos and tribes in the Mesa Verde region. More than 600 items of cultural patrimony will be returned to this region, which includes areas of Utah, Colorado, and New Mexico.

During National Native American Heritage Month, we affirm our commitment to working toward a society that fosters a deeper understanding and appreciation for the diversity of culture and history of the 573 federally recognized American Indian and Alaska Native nations in our country. This November and every month, we celebrate the culture and heritage of these remarkable Americans who deeply enrich the quality and character of our Nation.

NOW, THEREFORE, I, DONALD J. TRUMP, President of the United States of America, by virtue of the authority vested in me by the Constitution and the laws of the United States, do hereby proclaim November 2019 as National Native American Heritage Month. I call upon all Americans to commemorate this month with appropriate programs and activities and to celebrate November 29, 2019, as Native American Heritage Day.

IN WITNESS WHEREOF, I have hereunto set my hand this thirty-first day of October, in the year of our Lord two thousand nineteen, and of the Independence of the United States of America the two hundred and forty-fourth.

[FR Doc. 2019-24281

Filed 11-4-19; 11:15 am]

Billing code 3295-F0-P